DEPARTMENT OF ENERGY

Federal Energy Regulatory Commission

[Docket No. CP01-31-001]

Kern River Gas Transmission Company; Notice of Amendment

May 18, 2001.

Take notice that on May 11, 2001, Kern River Gas Transmission Company (Kern River), 295 Chipeta Way, Salt Lake City, Utah, 84158, filed in Docket No. CP01-31-001 an amendment to its November 15, 2000 application in Docket No. CP01-31-000 for authority to construct and operate the remaining facilities required for its 2002 Expansion Project, all as more fully set forth in the application which is on file with the Commission and open to public inspection. The filing may be viewed at http://www.ferc.fed.us/online/rims.htm (call 202-208-2222 for assistance).

Kern River states that after incorporating the facilities currently being installed for its short-term California Action Project (authorized in Docket No. CP01-106-000) into the design of its originally proposed 2002 Expansion Project, Kern River states that it now requests issuance of a certificate of public convenience and necessity only: (i) To install an additional compressor unit at its existing Muddy Creek Compressor Station (Muddy Creek) in Lincoln County, Wyoming; (ii) to upgrade its existing Opal Meter Station in Lincoln County, Wyoming; and (iii) to install a new electric motor-driven compressor unit at the Daggett Compressor Station (Daggett) in San Bernardino County, California. Kern River states that these proposed facilities will cost approximately $31.4 million to construct and that the 2002 Expansion Project also will be allocated a pro rata share (124.5/145.5) of the California Action Project costs that were proposed to be levelized or amortized over 15 years.

Kern River states that it continues to request an up-front determination that its 2002 Expansion Project qualifies for rolled-in rate treatment. Kern River states that the rolled-in effect of the 2002 Expansion billing determinants (124,500 Dth/d) and the cost of service attributable thereto will reduce the otherwise applicable rates for existing rolled-in shippers by approximately 6 to 7 percent, partially offset by an increase in fuel gas and electricity cost reimbursement obligations for compression on the expanded system.

It is also stated by Kern River that to ensure recovery of its actual electric fuel costs for the proposed electric compressor at Daggett from the shippers flowing gas through that station (excluding California Action Project shippers, which are subject to a separate, incremental fuel in-kind reimbursement obligation), Kern River states that it continues to request approval of a pro forma tariff provision establishing an electric compressor fuel surcharge. However, it is stated that the initial surcharge now is proposed to be $0.0099 per Dth of applicable flow through the station, based on updated volumes and electric costs.

Kern River states that, since the 2002 Expansion shippers require service by May 1, 2002, in order to serve the fuel requirements of new and eisting electric power generation facilities in California, Kern River requests the Commission to grant the requested authorizations by no later than August, 2001, so construction can commence at Muddy Creek by September 1, 2001, before the advent of winter weather in Wyoming.

Any questions regarding this application should be directed to Gary K. Kotter, Manager, Certificates, Kern River Gas Transmission Company, P.O. Box 58900, Salt Lake City, Utah 84158-0900, call (801) 584-7117.

There are two ways to become involved in the Commission's review of this project. First, any person wishing to obtain legal status by becoming a party to the proceedings for this project should, on or before June 8, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be palced on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to itnervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-13095 Filed 5-23-01; 8:45 am]

BILLING CODE 6717-01-M